DEPARTMENT OF LABOR

Employment and Training Administration

[TA-W-56,751]

Hitachi Global Storage Technologies, Inc., San Jose, CA; Notice of Termination of Investigation

Pursuant to Section 221 of the Trade Act of 1974, as amended, an investigation was initiated on March 11, 2005 in response to a worker petition filed by a company official on behalf of workers at Hitachi Global Storage Technologies, Inc., San Jose, California.

The petitioner has requested that the petition be withdrawn. Consequently, the investigation has been terminated.

Signed at Washington, DC this 30th day of March 2005.
Linda G. Poole,
Certifying Officer, Division of Trade Adjustment Assistance.

[FR Doc. E5-1933 Filed 4-22-05; 8:45 am]

BILLING CODE 4510-30-P